DEPARTMENT OF ENERGY

Federal Energy Regulatory Commission

Notice of Intent To File for New License

June 11, 2002.

a. Type of Filing: Notice of Intent to File an Application for New License.

b. Project No.: 9184-000.

c. Date Filed: April 3, 2002.

d. Submitted By: Flambeau Hydro, LLC—current licensee.

e. Name of Project: Danbury Dam Hydroelectric Project.

f. Location: On the Yellow River near the City of Danbury, in Burnett County, Wisconsin. The project does not occupy federal lands.

g. Filed Pursuant to: Section 15 of the Federal Power Act.

h. Licensee Contact: Loyal Gake, North American Hydro Inc., 116 State Street, P.O. Box 167, Neshkoro, WI 54960 (920) 293-4628.

i. FERC Contact: Tom Dean, thomas.dean@ferc.gov, (202) 219-2778.

j. Effective date of current license: June 10, 1957.

k. Expiration date of current license: June 9, 2007.

l. Description of the Project: The project consists of the following existing facilities: (1) A 30-foot-high, 54-foot-long concrete spillway dam with stoplog gates; (2) a 300-foot-long earthen dike; (3) a reservoir with a maximum pool elevation of 929.7 feet NGVD; (4) a gated intake structure; (5) two 25-foot-long, 69-inch diameter penstocks; (6) a powerhouse (Plant 1) containing two generating units with a total installed capacity of 476-kW; (7) an ungated canal headworks; (8) a 2,150-foot-long in-situ power canal; (9) a gated penstock intake structure; (10) a 95-foot-long, 96-inch diameter penstock, (11) a powerhouse (Plant 2) containing a single generating unit with an installed capacity of 600-kW; (12) a 200-foot-long tailrace; (13) a 2.4-kV, 2,325-foot-long transmission line from Plant 1; (14) a 2.4-kV, 200-foot-long transmission line from Plant 2; and (15) appurtenant facilities.

m. Each application for a license and any competing license applications must be filed with the Commission at least 24 months prior to the expiration of the existing license. All applications for license for this project must be filed by June 9, 2005.

n. Copies of this filing are on file with the Commission and are available for public inspection. This filing may also be viewed on the Web at http://www.ferc.gov using the “RIMS” link, select “Docket#” and follow the instructions (call 202-208-2222 for assistance). A copy is also available for inspection and reproduction by contacting the applicant identified in item h above.

Magalie R. Salas,
Secretary.

[FR Doc. 02-15174 Filed 6-14-02; 8:45 am]

BILLING CODE 6717-01-P